DEPARTMENT OF AGRICULTURE

Rural Housing Service

[Docket No. RHS-24-NONE-0019]

60-Day Notice of Proposed Information Collection: Rural Housing Service Finance Office Forms; OMB Control No.: 0575-0184

AGENCY: Rural Housing Service (RHS), USDA.

ACTION: Notice; request for comments.

SUMMARY: In accordance with the Paperwork Reduction Act of 1995, the United States Department of Agriculture (USDA), RHS announces its intention to request a revision of a currently approved information collection and invites comments on this information collection.

DATES: Comments on this notice must be received by September 20, 2024 to be assured of consideration.

ADDRESSES: Comments may be submitted electronically through the Federal eRulemaking Portal, http://www.regulations.gov. In the “Search for dockets and documents on agency actions” box, enter the docket number “RHS-24-NONE-0019,” and click the “Search” button. From the search results: click on or locate the document title: “60-Day Notice of Proposed Information Collection: Title Clearance and Loan Closing; OMB Control No.: 0575-0147” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.”

Information on using Regulations.gov, including instructions for accessing documents, submitting comments, and viewing the docket after the close of the comment period, is available through the site's “FAQ” link.

All comments will be available for public inspection online at the Federal eRulemaking Portal (https://www.regulations.gov).

FOR FURTHER INFORMATION CONTACT: Crystal Pemberton, Rural Development Innovation Center—Regulations Management Division, USDA, 1400 Independence Avenue SW, South Building, Washington, DC 20250-1522. Telephone: (202) 260-8621. Email Crystal.Pemberton@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see, 5 CFR 1320.8(d)). This notice identifies the following information collection that RHS is submitting to OMB as extension to an existing collection with Agency adjustment.

Title: Form RD 3550-28, Authorization Agreement for Preauthorized Payments, Form RD 1951-65, Customer Initiated Payments (CIP), and Form RD 1951-66, FedWire Worksheet.

OMB Control Number: 0575-0184.

Expiration Date of Approval: January 31, 2025.

Type of Request: Revision of a currently approved information collection.

Estimate of Burden: Public reporting burden for this collection of information is estimated to average .25 hours per response. Each Rural Development borrower who elects to participate in electronic loan payments will only prepare one response for the life of their loan unless they change financial institutions or accounts.

This information collection reflects an estimate of an increase of an additional 1,464 responses and an estimate of an increase of an additional 366 hours to the burden hours due to an increase in respondents for the Single Family Housing and Community Programs and an increase in burden for Forms 3550-28/A.

Respondents: Business or other for-profit; Not-for-profit institutions; and State, Local, or Tribal Government.

Estimated Number of Respondents: 11,062.

Estimated Number of Responses per Respondent: 1.

Estimated Total Annual Burden on Respondents: 2,765.50 hours.

Abstract: RHS uses electronic methods (Customer Initiated Payments [CIP], FedWire, and Preauthorized Debits [PAD]) for receiving and processing loan payments and collections. These electronic collection methods provide a means for RHS borrowers to transmit loan payments from their financial institution (FI) accounts to Rural Development's Treasury Account and receive credit for their payments.

To administer these electronic loan collection methods, RHS collects the borrower's FI routing information (routing information includes the FI routing number and the borrower's account number). RHS uses Agency approved forms for collecting bank routing information for CIP, FedWire, and PAD.

Comments are invited on:

(a) Whether the proposed collection of information is necessary for the proper performance of the functions of the Agency, including whether the information will have practical utility;

(b) The accuracy of the Agency's estimate of the burden of the proposed collection of information including the validity of the methodology and assumptions used;

(c) Ways to enhance the quality, utility, and clarity of the information to be collected; and

(d) Ways to minimize the burden of the collection of information on those who are to respond, including through the use of appropriate automated, electronic, mechanical, or other technological collection techniques or other forms of information technology.

Copies of this information collection can be obtained from Crystal Pemberton, Innovation Center-Regulations Management Division, at Telephone: (202) 260-8621. Email Crystal.Pemberton@usda.gov.

All responses to this notice will be summarized and included in the request for OMB approval. All comments also will become a matter of public record.

Joaquin Altoro,
Administrator, Rural Housing Service.

[FR Doc. 2024-16033 Filed 7-19-24; 8:45 am]

BILLING CODE 3410-XV-P